DEPARTMENT OF COMMERCE

National Oceanic and Atmospheric Administration

[RTID 0648-XA941]

Marine Mammals; File No. 18786

AGENCY: National Marine Fisheries Service (NMFS), National Oceanic and Atmospheric Administration (NOAA), Commerce.

ACTION: Notice; receipt of application for permit amendment.

SUMMARY: Notice is hereby given that the NMFS Office of Protected Resources, Marine Mammal Health and Stranding Response Program (Responsible Party: Teri Rowles, D.V.M., Ph.D.), 1315 East West Highway, Silver Spring, MD 20910 has applied for an amendment to Scientific Research Permit No. 18786-05.

DATES: Written, telefaxed, or email comments must be received on or before April 16, 2021.

ADDRESSES: The application and related documents are available for review by selecting “Records Open for Public Comment” from the “Features” box on the Applications and Permits for Protected Species (APPS) home page, https://apps.nmfs.noaa.gov, and then selecting File No. 18786 from the list of available applications. These documents are also available upon written request via email to NMFS.Pr1Comments@noaa.gov.

Written comments on this application should be submitted via email to NMFS.Pr1Comments@noaa.gov. Please include File No. 18786 in the subject line of the email comment.

Those individuals requesting a public hearing should submit a written request via email to NMFS.Pr1Comments@noaa.gov. The request should set forth the specific reasons why a hearing on this application would be appropriate.

FOR FURTHER INFORMATION CONTACT: Shasta McClenahan, Ph.D. or Amy Sloan, (301)427-8401.

SUPPLEMENTARY INFORMATION: The subject amendment to Permit No. 18786-05 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226), and the Fur Seal Act of 1966, as amended (16 U.S.C. 1151 et seq.).

Permit No. 18786, issued on June 30, 2015 (80 FR 44939), authorizes the permit holder to: (1) Carry out response, rescue, rehabilitation and release of threatened and endangered marine mammals under NMFS jurisdiction (Cetacea and Pinnipedia (excluding walrus)), and disentanglement of all marine mammals under NMFS jurisdiction, pursuant to sections 109(h), 112(c), and Title IV of the MMPA; and, carry out such activities as enhancement pursuant to section 10(a)(1)(A) of the ESA; (2) Conduct health-related, bona fide scientific research studies on marine mammals and marine mammal parts under NMFS jurisdiction pursuant to sections 104(c) and Title IV of the MMPA and section 10(a)(1)(A) of the ESA, including research related to emergency response that may involve compromised animals, and research on healthy animals that have not been subject to emergency response (e.g., baseline health studies); (3) Conduct Level B harassment on all marine mammal species under NMFS jurisdiction incidental to MMHSRP activities in the U.S.; and (4) Collect, salvage, receive, possess, transfer, import, export, analyze, and curate marine mammal specimens under NMFS jurisdiction for purposes delineated in numbers (1) and (2) above. The permit holder is requesting the permit be amended to include authorization to extend the duration of the permit for 12 months through December 31, 2022.

An environmental assessment (EA) was prepared for the original permit (No. 18786) in compliance with the National Environmental Policy Act of 1969 (42 U.S.C. 4321 et seq.), to examine whether significant environmental impacts could result from issuance of the proposed scientific research permit. Based on the analyses in the EA, NMFS determined that issuance of the permit would not significantly impact the quality of the human environment and that preparation of an environmental impact statement was not required. That determination is documented in a Finding of No Significant Impact (FONSI), signed on June 29, 2015. The activities in this proposed amendment are consistent with the analyses in the original EA and no additional NEPA analysis is required for the issuance of this amendment. The original EA and FONSI are available upon request.

Concurrent with the publication of this notice in the Federal Register, NMFS is forwarding copies of this application to the Marine Mammal Commission and its Committee of Scientific Advisors.

Dated: March 11, 2021.
Amy Sloan,
Acting Chief, Permits and Conservation Division, Office of Protected Resources, National Marine Fisheries Service.

[FR Doc. 2021-05446 Filed 3-16-21; 8:45 am]

BILLING CODE 3510-22-P